DEPARTMENT OF COMMERCE

National Oceanic and Atmospheric Administration

RIN 0648-XG184

North Pacific Fishery Management Council; Public Meeting

AGENCY: National Marine Fisheries Service (NMFS), National Oceanic and Atmospheric Administration (NOAA), Commerce.

ACTION: Notice of telephonic meeting.

SUMMARY: The North Pacific Fishery Management Council (Council) Observer Advisory Committee Subgroup will meet May 11, 2018.

DATES: The meeting will be held on Friday, May 11, 2018, from 9 a.m. to 12 p.m.

ADDRESSES: The meeting will be held telephonically. Teleconference line: (907) 271-2896.

Council address: North Pacific Fishery Management Council, 605 W 4th Ave., Suite 306, Anchorage, AK 99501-2252; telephone: (907) 271-2809.

FOR FURTHER INFORMATION CONTACT: Elizabeth Figus, Council staff; telephone: (907)-271-2809.

SUPPLEMENTARY INFORMATION:

Agenda

Friday, May 11, 2018

The agenda will include: A discussion of the Observer Program Fee Analysis draft, including an outline, alternatives, and discussion of monitoring objectives.

The Agenda is subject to change, and the latest version will be posted at http://www.npfmc.org/observer-program/.

Public Comment

Public comment letters will be accepted and should be submitted either electronically to Elizabeth Figus, Council staff: Elizabeth.figus@noaa.gov. or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: April 20, 2018.
Rey Israel Marquez,
Acting Deputy Director, Office of Sustainable Fisheries, National Marine Fisheries Service.

[FR Doc. 2018-08702 Filed 4-24-18; 8:45 am]

BILLING CODE 3510-22-P